DEPARTMENT OF HOMELAND SECURITY

[Docket No. DHS-2017-0041]

Committee management; notice of Federal Advisory Committee meeting

AGENCY: Information Sharing and Services Organization (IS²O)/Office of Chief Information Officer (OCIO), Department of Homeland Security.

ACTION: Committee management; notice of Federal Advisory Committee meeting.

SUMMARY: The Homeland Security Information Network Advisory Committee (HSINAC) will meet on Wednesday, September 6, 2017, to receive an update from the Homeland Security Information Network (HSIN) Program Office on various HSIN efforts undertaken during the 2017 Fiscal Year (FY) and planned activities for the upcoming quarters.

DATES: The HSINAC will meet on Wednesday, September 6, 2017, from 1:00 p.m. to 2:00 p.m. Eastern Standard Time (EST). Please note that the meeting may close early if the committee has completed its business.

ADDRESSES: The meeting will be held virtually via HSIN Connect, an online web-conferencing tool at https://share.dhs.gov/hsin-policy, and available via teleconference at conference number: 1-888-942-9868; conference pin: 390-9971#. To access the web conferencing tool, participants will need to: (1) Go to https://share.dhs.gov/hsin-policy; (2) click on “enter as a guest”; (3) type in their name as a guest; and (4) click “submit.” The teleconference line will be open to the public and the meeting brief will be posted beforehand on the HSINAC's Web site (https://dhs.gov/hsin-advisory-committee). If the Federal government is closed, the meeting will be rescheduled. For information on services for individuals with disabilities or to request special assistance to attend, please email sheila.becherer@associates.hq.dhs.gov by 5:00 p.m. EST on Wednesday, August 30, 2017.

The HSIN Program Office is inviting public comment on the issues to be considered by the HSINAC in order to facilitate public participation in the meeting. Comments must be identified by Docket Number DHS-2017-0041 and may be submitted by one of the following methods:

• Federal eRulemaking Portal: http://www.regulations.gov. Follow the instructions for submitting comments.

• Email: sheila.becherer@associates.hq.dhs.gov. Please include Docket Number DHS-2017-0041 in the subject line of the message.

• Mail: Designated Federal Officer, 245 Murray Lane SW., Mailstop 0426, 4th Floor, Workstation 82, ATTN: Maria Petrakis, Washington, DC 20828.

• Fax: (202) 343-4294, ATTN: Sheila Becherer.

• Instructions: All submissions received must include the words “Department of Homeland Security” and Docket Number DHS-2017-0041. Comments received will be posted without alteration at http://www.regulations.gov including any personal information provided.

• Docket: For access to the docket to read background documents or comments received, go to http://www.regulations.gov and search for Docket Number DHS-2017-0041.

A public comment period is scheduled during the meeting on Wednesday, September 6, 2017, from 1:40 p.m. to 1:55 p.m. EST. Speakers who wish to participate in the public comment period must register in advance and can do so by emailing sheila.becherer@associates.hq.dhs.gov by no later than Wednesday, August 30, 2017, at 5:00 p.m. EST. Speakers are requested to limit their comments to three (3) minutes and will speak in order of registration. Please note that the public comment period may begin earlier than the time listed above if the committee concludes its business earlier than expected. Similarly, the period may also end before the time indicated, following the last request for comments.

FOR FURTHER INFORMATION CONTACT: Ms. Maria Petrakis, HSINAC Designated Federal Officer and HSIN Policy Manager, Department of Homeland Security, (202) 343-4280 (office), maria.petrakis@hq.dhs.gov (email).

SUPPLEMENTARY INFORMATION: Notice of this meeting is given under the Federal Advisory Committee Act, 5 U.S.C. appendix (Pub. L. 92-463). The HSINAC is an advisory body to the HSIN Program Office. This committee provides advice and recommendations to the Department of Homeland Security (DHS) on matters relating to HSIN. These matters include system requirements, operating policies, community organization, knowledge management, interoperability and federation with other systems, and any other aspect of HSIN that supports the operations of DHS and its Federal, State, territorial, local, tribal, international, and private sector mission partners.

Agenda: The HSINAC will hold a virtual meeting on Wednesday, September 6, 2017, to discuss recent HSIN Program efforts, to include an overview of HSIN's migration to the Cloud, significant projects planned for FY 2018, and the impacts of these initiatives on end users. The members will also have the opportunity to discuss upcoming HSINAC activities and provide feedback to the HSIN Program Office on HSINAC future activities.

Responsible DHS Official: Ms. Maria Petrakis, HSINAC Designated Federal Officer.

Dated: July 13, 2017.
James Lanoue,
HSIN Program Manager.

[FR Doc. 2017-15375 Filed 7-20-17; 8:45 am]

BILLING CODE 9110-9B-P